DEPARTMENT OF HOMELAND SECURITY

U.S. Customs and Border Protection

Agency Information Collection Activities: Trusted Traveler Programs

AGENCY: U.S. Customs and Border Protection (CBP), Department of Homeland Security.

ACTION: 60-Day Notice and request for comments; Extension of an existing collection of information: 1651-0121.

SUMMARY: As part of its continuing effort to reduce paperwork and respondent burden, CBP invites the general public and other Federal agencies to comment on an information collection requirement concerning the Trusted Traveler Programs. This request for comment is being made pursuant to the Paperwork Reduction Act of 1995 (Pub. L. 104-13).

DATES: Written comments should be received on or before July 8, 2013, to be assured of consideration.

ADDRESSES: Direct all written comments to U.S. Customs and Border Protection, Attn: Tracey Denning, Regulations and Rulings, Office of International Trade, 90 K Street NE., 10th Floor, Washington, DC 20229-1177, at 202-325-0265.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (total capital/startup costs and operations and maintenance costs). The comments that are submitted will be summarized and included in the CBP request for Office of Management and Budget (OMB) approval. All comments will become a matter of public record. In this document CBP is soliciting comments concerning the following information collection:

Title: Trusted Traveler Programs (Global Entry, SENTRI and FAST).

OMB Number: 1651-0121.

Form Numbers: 823S (SENTRI) and 823F (FAST).

Abstract: This collection of information is for CBP's Trusted Traveler Programs including the Secure Electronic Network for Travelers Rapid Inspection (SENTRI), which allows expedited entry at specified southwest land border ports of entry; the Free and Secure Trade Program (FAST), which provides expedited border processing for known, low-risk commercial drivers; and Global Entry which allows pre-approved, low-risk, air travelers expedited clearance upon arrival into the United States.

The purpose of all of these programs is to provide prescreened travelers expedited entry into the United States. The benefit to the traveler is less time spent in line waiting to be processed. These Trusted Traveler programs are provided for in 8 CFR 235.7.

This collection of information involves the data collected on the applications and kiosks for these Trusted Traveler Programs. Applicants may apply to participate in these programs by using the Global On-line Enrollment System (GOES) at https://goes-app.cbp.dhs.gov. Or they may also apply for SENTRI and FAST using paper forms (CBP Form 823S for SENTRI and CBP Form 823F for FAST) available at http://www.cbp.gov or at Trusted Traveler Enrollment Centers.

After arriving at the Federal Inspection Services area of the airport, participants use a self-serve inspection process, in lieu of inspection by an officer, by going to a Global Entry kiosk to have a photograph and fingerprints taken, submit identifying information, and to answer several questions about items they are bringing into the United States. When using the Global Entry kiosks, participants are required to declare all articles being brought into the United States pursuant to 19 CFR 148.11.

Current Actions: This submission is being made to extend the expiration date and to revise the burden hours as a result of updated estimates of the number of applicants for Global Entry and SENTRI. The burden hours were also adjusted to reflect a revised estimated time to complete the Global Entry application. The burden hours also reflect an increase in the number of respondents using the Global Entry kiosks and a decrease in the estimate of time it takes to use the kiosks.

There is no change to the information being collected on the Trusted Traveler forms, the Global On-line Enrollment System (GOES) or on the Global Entry kiosks.

Type of Review: Extension with a change to the burden hours.

Affected Public: Individuals and Businesses.

SENTRI (Form 823S):

Estimated Number of Annual Respondents: 46,000.

Estimated Number of Total Annual Responses: 46,000.

Estimated Time per Response: 40 minutes.

Estimated Total Annual Burden Hours: 30,820.

Estimated Annual Costs: $5,623,500.

FAST (Form 823F):

Estimated Number of Annual Respondents: 28,910.

Estimated Number of Total Annual Responses: 28,910.

Estimated Time per Response: 40 minutes.

Estimated Total Annual Burden Hours: 19,370.

Estimated Annual Costs: $1,445,500.

Global Entry:

Estimated Number of Annual Respondents: 628,000.

Estimated Number of Total Annual Responses: 628,000.

Estimated Time per Response: 40 minutes.

Estimated Total Annual Burden Hours: 420,760.

Estimated Annual Costs: $62,800,000.

Global Entry Kiosks:

Estimated Number of Annual Respondents: 2,200,000.

Estimated Number of Total Annual Responses: 2,200,000.

Estimated Time per Response: 1 minute.

Estimated Total Annual Burden Hours: 35,200.

Dated: May 1, 2013.
Tracey Denning,
Agency Clearance Officer, U.S. Customs and Border Protection.

[FR Doc. 2013-10728 Filed 5-6-13; 8:45 am]

BILLING CODE 9111-14-P